DEPARTMENT OF COMMERCE

National Oceanic and Atmospheric Administration

[RTID 0648-XC795]

Takes of Marine Mammals Incidental to Specified Activities; Taking Marine Mammals Incidental to Ferry Berth Improvements in Tongass Narrows in Ketchikan, Alaska

AGENCY: National Marine Fisheries Service (NMFS), National Oceanic and Atmospheric Administration (NOAA), Commerce.

ACTION: Notice; issuance of renewal incidental harassment authorization (IHA).

SUMMARY: In accordance with the regulations implementing the Marine Mammal Protection Act (MMPA), as amended, notification is hereby given that NMFS has issued a renewal IHA to the Alaska Department of Transportation and Public Facilities (ADOT) to incidentally harass marine mammals incidental to ferry berth improvements in Tongass Narrows in Ketchikan, Alaska.

DATES: This renewal IHA is valid from March 5, 2023 through March 4, 2024.

FOR FURTHER INFORMATION CONTACT: Kate Fleming, Office of Protected Resources, NMFS, (301) 427-8401. Electronic copies of the original application, renewal request, and supporting documents (including NMFS Federal Register notices of the original proposed and final authorizations, and the previous IHA), as well as a list of the references cited in this document, may be obtained online at: https://www.fisheries.noaa.gov/permit/incidental-take-authorizations-under-marine-mammal-protection-act. In case of problems accessing these documents, please call the contact listed above.

SUPPLEMENTARY INFORMATION:

Background

The Marine Mammal Protection Act (MMPA) prohibits the “take” of marine mammals, with certain exceptions. Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, an incidental harassment authorization is issued.

Authorization for incidental takings shall be granted if NMFS finds that the taking will have a negligible impact on the species or stock(s) and will not have an unmitigable adverse impact on the availability of the species or stock(s) for taking for subsistence uses (where relevant). Further, NMFS must prescribe the permissible methods of taking and other “means of effecting the least practicable adverse impact” on the affected species or stocks and their habitat, paying particular attention to rookeries, mating grounds, and areas of similar significance, and on the availability of such species or stocks for taking for certain subsistence uses (referred to here as “mitigation measures”). Monitoring and reporting of such takings are also required. The meaning of key terms such as “take,” “harassment,” and “negligible impact” can be found in section 3 of the MMPA (16 U.S.C. 1362) and the agency's regulations at 50 CFR 216.103.

NMFS' regulations implementing the MMPA at 50 CFR 216.107(e) indicate that IHAs may be renewed for additional periods of time not to exceed 1 year for each reauthorization. In the notice of proposed IHA for the initial authorization, NMFS described the circumstances under which we would consider issuing a renewal for this activity, and requested public comment on a potential renewal under those circumstances. Specifically, on a case-by-case basis, NMFS may issue a one-time 1-year renewal IHA following notice to the public providing an additional 15 days for public comments when (1) up to another year of identical, or nearly identical, activities as described in the Detailed Description of Specified Activities section of the initial IHA issuance notice is planned or (2) the activities as described in the Description of the Specified Activities and Anticipated Impacts section of the initial IHA issuance notice would not be completed by the time the initial IHA expires and a renewal would allow for completion of the activities beyond that described in the DATES section of the notice of issuance of the initial IHA, provided all of the following conditions are met:

1. A request for renewal is received no later than 60 days prior to the needed renewal IHA effective date (recognizing that the renewal IHA expiration date cannot extend beyond 1 year from expiration of the initial IHA).

2. The request for renewal must include the following:

• An explanation that the activities to be conducted under the requested renewal IHA are identical to the activities analyzed under the initial IHA, are a subset of the activities, or include changes so minor (e.g., reduction in pile size) that the changes do not affect the previous analyses, mitigation and monitoring requirements, or take estimates (with the exception of reducing the type or amount of take).

• A preliminary monitoring report showing the results of the required monitoring to date and an explanation showing that the monitoring results do not indicate impacts of a scale or nature not previously analyzed or authorized.

3. Upon review of the request for renewal, the status of the affected species or stocks, and any other pertinent information, NMFS determines that there are no more than minor changes in the activities, the mitigation and monitoring measures will remain the same and appropriate, and the findings in the initial IHA remain valid.

An additional public comment period of 15 days (for a total of 45 days), with direct notice by email, phone, or postal service to commenters on the initial IHA, is provided to allow for any additional comments on the proposed renewal. A description of the renewal process may be found on our website at: www.fisheries.noaa.gov/national/marine-mammal-protection/incidental-harassment-authorization-renewals.

History of Request

On March 5, 2022, NMFS issued an IHA to ADOT to take marine mammals incidental to construction and/or improvements to four ferry berths in Tongass Narrows in Ketchikan, Alaska: Gravina Airport Ferry Layup Facility, the Gravina Freight Facility, the Revilla New Ferry Berth and Upland Improvements, and the New Gravina Island Shuttle Ferry Berth/Related Terminal Improvements (87 FR 15387, March 18, 2022), effective from March 5, 2022 through March 4, 2023. NMFS previously issued two consecutive IHAs, one of which was renewed and the other reissued, prior to issuing the initial IHA (which includes some construction that was originally planned under the consecutive IHA's as well as some new/additional work) associated with this renewal.

Following the issuance of the initial IHA, ADOT reported the presence of northern elephant seals (Mirounga angustirostris) in the area, which had not been anticipated. In June 2022, NMFS modified the March 2022 initial IHA by adding authorized take by Level B harassment of this species at ADOT's request.

In July 2022 ADOT also requested to install a subset of temporary piles via down-the-hole (DTH) methods rather than the previously assumed vibratory pile driving, in case the overburden onsite was not deep enough. In September 2022 NMFS determined that ADOT's requested modification did not alter the original scope of activity analyzed or the impact analysis in a manner that materially affected the basis for the original findings. NMFS additionally modified the IHA to require additional shutdown zones but determined that authorization of additional take was not required.

On January 5, 2023, NMFS received an application for the renewal of that initial IHA. Following NMFS' review of the application, the ACOE submitted a revised version on January 19, 2023 and again on January 25, 2023. As described in the application for renewal, the activities for which incidental take is requested consist of activities that are covered by the initial authorization (and subsequent modifications) discussed above but will not be completed prior to its expiration. As required, the applicant also provided a preliminary monitoring report (available at https://www.fisheries.noaa.gov/action/incidental-take-authorization-alaska-department-transportation-ferry-berth-improvements-0) which confirms that the applicant has implemented the required mitigation and monitoring, and which also shows that no impacts of a scale or nature not previously analyzed or authorized have occurred as a result of the activities conducted. The notice of the proposed renewal incidental harassment authorization was published on February 10, 2023 (88 FR 8814).

Description of the Specified Activities and Anticipated Impacts

ADOT is making improvements to existing ferry berths and constructing new ferry berths on Gravina Island and Revillagigedo (Revilla) Island in Tongass Narrows, near Ketchikan in southeast Alaska. These ferry facilities provide the only public access between the city of Ketchikan, AK on Revilla Island, and the Ketchikan International Airport on Gravina Island. In-water work associated with the Revilla New Ferry Berth and Upland Improvements, and Gravina Airport Ferry Layup Facility have been completed. Only partial in-water work has been completed at the Gravina Island Shuttle Ferry Berth/Related Terminal Improvements, and no in-water work has been completed towards the Freight Facility. The remaining marine construction associated with the activities is planned to occur over 30 non-consecutive days over 1 year beginning March 5, 2023. The project's planned activities that have the potential to take marine mammals, by Level A harassment and Level B harassment, include vibratory and impact pile driving, DTH operations for pile installation (rock socketing of piles and tension anchors to secure piles), and vibratory pile removal.

Under the initial IHA, Level B harassment is authorized for a small number of nine species of marine mammals (including northern elephant seal). Of those nine species, Level A harassment was authorized for five species Steller sea lion (Eumetopias jubatus), harbor seal (Phoca vitulina richardii), harbor porpoise (Phocoena phocoena), Dall's porpoise (Phocoenoides dalli) and minke whale (Balaenoptera acutorostrata). Neither ADOT nor NMFS expects serious injury or mortality to result from this activity and, therefore, a renewal IHA is appropriate.

The following documents are referenced in this notice and include important supporting information:

• Federal Register notice of initial 2022 final IHA (87 FR 15387, March 18, 2022);

• Federal Register notice of initial 2022 proposed IHA (87 FR 5980, February 2, 2022); and

• Initial IHA application, Biological Opinion, References (available at www.fisheries.noaa.gov/action/incidental-take-authorization-alaska-department-transportation-ferry-berth-improvements-0).

Detailed Description of the Activity

A detailed description of the ferry berth construction and improvements for which take is authorized here may be found in the notices of the proposed and final IHAs for the initial authorization. NMFS also incorporates the installation of 20 24-inch temporary piles via DTH methods (rather than vibratory pile driving) at the Freight and Layup Facility (via the September 2022 modification of the initial IHA) to that detailed description, increasing the overall DTH drilling duration by approximately 6 percent over the duration of the project, as compared with the analysis in the Federal Register notices for the initial IHA. The 20 temporary piles require relatively short durations of DTH drilling in comparison to the production piles included in the initial analysis, which are drilled much further into the bedrock.

While the in-water work associated with the Revilla New Ferry Berth and Gravina Airport Ferry Layup Facility have been completed, the Gravina Shuttle Island Ferry Berth and the Freight Facility have not. At the time of the renewal request no in-water work had been completed at the Freight Facility and a subset of in-water work had been completed at the Gravina Island Shuttle Ferry Berth:

• Installation and removal of twelve 20-inch temporary piles;

• Installation of 10 rock sockets;

• Installation of 12 24-inch permanent piles.

In-water work that is planned for completion under this renewal IHA include remaining work at the Gravina Island Shuttle Ferry Berth:

• Installation of twenty-three 24-inch piles;

• Installation of twenty-eight tension anchors;

• Installation of 11 rock sockets.

and all pile driving activities for the Freight Facility:

• Installation of six 20-inch steel piles;

• Installation of three 24-inch piles;

• Installation of four 30-inch steel piles;

• Installation and removal of twelve 24-inch temporary piles;

• Installation of 13 tension anchors;

• Installation of 5 rock sockets.

The location, timing (e.g. seasonality), and nature of the activities, including the types of equipment planned for use, are identical to those described in the previous notices (as updated through incorporation of the request to install temporary piles via DTH, rather than vibratory driver).

The remaining marine construction associated with the activities is planned to occur over 30 non-consecutive days over 1 year beginning March 5, 2023. Though concurrent use of two hammers is unlikely/expected to rarely occur during the remaining work under the renewal, the possibility remains. The initial IHA accounted for concurrent use of any combination of hammers for half the anticipated number of days of construction. That assumption is carried over into this renewal IHA. This renewal is effective for a period not exceeding 1 year from the date of expiration of the initial IHA (March 4, 2023).

Description of Marine Mammals

A description of the marine mammals in the area of the activities for which take is authorized, including information on abundance, status, distribution, and hearing, may be found in the notice of the proposed IHA (87 FR 5980, February 2, 2022), and the Final IHA (87FR15387, March 18, 2023) for the initial authorization.

NMFS has reviewed the monitoring data from the initial IHA, recent draft Stock Assessment Reports, information on relevant Unusual Mortality Events, and other scientific literature, and determined that neither this nor any other new information affects which species or stocks have the potential to be affected or the pertinent information in the Description of the Marine Mammals in the Area of Specified Activities contained in the supporting documents for the initial IHA. This includes consideration of changes proposed in the Draft 2022 Marine Mammal Stock Assessment Report (SARs) (https://www.fisheries.noaa.gov/national/marine-mammal-protection/marine-mammal-stock-assessment-reports-region) published on January 24, 2023, which include a slightly reduced Alaska Resident killer whale population abundance estimate.

Potential Effects on Marine Mammals and Their Habitat

A description of the potential effects of the specified activity on marine mammals and their habitat for the activities for which take is authorized here may be found in the Federal Register notices of the Proposed IHA (87 FR 5980, February 2, 2022) and Final IHA (87FR15387, March 18, 2023) for the initial authorization.

In the case of installing temporary piles via DTH drilling rather than vibratory drilling, the nature of the impacts are the same, but they required identification of larger Level A harassment zones and a larger Level B harassment zone than originally anticipated. For installation of these temporary piles using DTH drilling, given the estimated source level of 167 dB RMS, the Level B harassment zone would be 13,594 m for all hearing groups. Regarding Level A harassment, using an estimated source level of 159 dB SEL at 10m, a strike rate of 15 strikes per second, an estimated DTH drilling duration of 180 minutes per pile (maximum duration estimated by ADOT), two piles per day (maximum daily pile number estimated by ADOT), and a transmission loss coefficient of 15 m, the use of DTH drilling for these temporary piles is estimated to produce the following hearing group-specific Level A harassment zones:

• Low-frequency cetaceans: 1,183 m

• Mid-frequency cetaceans: 42 m

• High-frequency cetaceans: 1,410 m

• Phocid pinnipeds: 633 m

• Otariid pinnipeds: 46 m

NMFS has reviewed the monitoring data from the initial IHA, recent draft Stock Assessment Reports, information on relevant Unusual Mortality Events, other scientific literature, and determined that neither this nor any other new information affects our initial analysis of impacts on marine mammals and their habitat.

Estimated Take

A detailed description of the methods and inputs used to estimate take for the specified activity are found in the notices of the proposed and final IHAs (87 FR 5980, February 2, 2022; 87 FR 15387, March 18, 2022) for the initial authorization. The source levels and marine mammal occurrence data applicable to this authorization remain unchanged from the previously issued IHA. Here, we provide additional discussion for northern elephant seal.

In consideration of the information provided by ADOT, described above in this section, NMFS expected that one elephant seal may have been taken by Level B harassment per week over the remainder of the effective period of the IHA (through March 4, 2023). At the time of analysis, 37 weeks remained in the effective period of the IHA, and NMFS authorized 37 takes of the California breeding stock of elephant seals. Similarly, the stocks taken, methods of take, and types of take remain unchanged from the previously issued IHA and subsequent authorization of take by Level B harassment of elephant seal. The take calculation method also remains the same, with the exception of fewer days of activity than what was described in the initial IHA. The approximate total number of operational days for this Renewal IHA is 33 percent of what was analyzed in support of the initial IHA. As such, take for most stocks have been reduced to 33 percent of the take authorized through the initial IHA (including for elephant seal). In cases when such a change would bring authorized take levels below the estimated group size for a given species [described in Initial 2021 proposed IHA (87 FR 5980, February 2, 2022; the Initial 2022 final IHA (87 FR 15387, March 18, 2022); take has been increased to the estimated group size to retain some allowance in the event that this species should occur in the project area.

Table 1—Estimated Take Authorized and Proportion of Population Potentially Affected
Authorized take: Species | Authorized take: DPS/stock | Authorized take: Level A harassment | Authorized take: Level B harassment | Authorized take: Total | Authorized take: Percent of stock
Steller sea lion | Eastern U.S. | 30 | 716 | 746 | 1.7
Harbor seal | Clarence Strait | 38 | 335 | 373 | 1.3
Harbor porpoise | Southeast Alaska | * 5 | 9 | 14 | 1.1
Dall's porpoise | Alaska | * 12 | 68 | 80 | 0.6
Pacific white-sided dolphin | North Pacific | 0 | * 92 | 92 | 3.4
Killer whale | Alaska Resident | 0 | 24 | 24 | 1.0
| West Coast Transient |  |  |  | 6.9
| Northern Resident |  |  |  | 7.9
Humpback whale | Central North Pacific | 0 | 75 | 75 | 0.7
Minke whale | Alaska | *1 | *2 | 3 | N/A
Northern Elephant Seal | California Breeding Stock | 0 | 12 | 12 | 0.01
* Take for most stocks have been reduced to 33% of the take authorized through the initial IHA. In cases when such a change would bring authorized take levels below the estimated group size for a given species [described in Initial 2021 proposed IHA (87 FR 5980, February 2, 2022; the Initial 2022 final IHA (87 FR 15387, March 18, 2022)], take has been increased to the estimated group size group size to retain some allowance in the event that this species should occur in the project area.

Description of Mitigation, Monitoring and Reporting Measures

The mitigation, monitoring, and reporting measures included as requirements in this authorization are identical to those included in the Federal Register notice announcing the issuance of the initial IHA (87 FR 15387, March 18, 2022), and subsequent updates to shutdown zones for DTH installation of temporary piles, are included in Table 2 and Table 3.

The same measures are included for this renewal and are summarized here:

• ADOT must implement a minimum shutdown zone of 10 m radius around the pile/hole/vessel for use of in-water heavy machinery/vessel (e.g., barge, dredge);

• ADOT must shut down if any marine mammals come within hearing group-specific shutdown zones (Table 2 and Table 3);

• ADOT must implement pile driving soft-starts whereby hammer energy is gradually ramped-up

• ADOT must employ at least three PSOs to monitor the harassment zones;

• ADOT must submit a draft report detailing all monitoring within ninety calendar days of the completion of marine mammal monitoring or sixty days prior to the issuance of any subsequent IHA for this project, whichever comes first;

• ADOT must prepare and submit final report within thirty days following resolution of comments on the draft report from NMFS;

• ADOT must submit all PSO datasheets and/or raw sighting data (in a separate file from the Final Report referenced immediately above); and

• ADOT must report injured or dead marine mammals.

The discussion of the least practicable adverse impact included in those documents and the Notice of the proposed IHA (87 FR 5980, February 2, 2022) remains accurate.

Table 2—Tiered Shutdown Zones and Level B Harassment Zones, Based on Activity and Duration for Vibratory Pile Driving and Removal, Impact Pile Driving, and Single-Source DTH
Activity | Pile size (m) | Minutes per pile or strikes per pile | Minimum shutdown zone (m): LF (humpback whales) | Minimum shutdown zone (m): LF (minke whales) | Minimum shutdown zone (m): MF | Minimum shutdown zone (m): HF | Minimum shutdown zone (m): PW | Minimum shutdown zone (m): OW | Minimum shutdown zone (m): Elephant seal (Dashes indicate that shutdown zones have not been explicitly calculated. ADOT may implement a tiered approach to shutdown zones, depending on the daily duration of activities, following the method described in the Mitigation Measures section of the initial Final IHA Notice.) | Level B harassment isopleth
Vibratory Installation | 30 | 60 min | 50 | 20 |  |  |  |  |  | 6,310
| 24 | 60 min |  |  |  |  |  |  |  | 5,412
| 20 | 60 min |  |  |  |  |  |  |  |
Vibratory Removal | 24 | 60 min |  |  |  |  |  |  |  |
DTH of Temporary Piles | 24 | 180 min | 1,200 | 1,200 | 50 | 1,450 | 650 | 50 | 650 | 13,594
DTH of Rock Sockets | 30 | 60 min | 780 | 1,500 | 30 | 500 | 200 | 40 | 450 | 13,594
|  | 120 min | 1,300 |  | 50 |  |  | 50 |  |
|  | 180 min | 1,700 |  | 60 |  |  | 70 |  |
|  | 240 min | 2,000 |  | 70 |  |  | 80 |  |
|  | 300 min | 2,300 |  | 90 |  |  | 900 | 1,250 |
|  | 360 min | 2,600 |  |  |  |  |  |  |
|  | 420 min | 2,900 |  |  |  |  |  |  |
|  | 480 min | 3,100 |  | 100 |  |  | 100 |  |
|  | 540 min | 3,400 |  |  |  |  |  |  |
|  | 600 min | 3,600 |  | 130 |  |  | 100 | 1,950 |
|  | 60 min | 360 |  | 20 |  |  | 20 | 200 |
|  | 120 min | 570 |  | 30 |  |  | 30 |  |
|  | 180 min | 750 |  | 30 |  |  | 30 |  |
|  | 240 min | 910 |  | 40 |  |  | 40 |  |
|  | 300 min | 1,100 |  | 40 |  |  | 50 | 600 |
|  | 360 min | 1,200 |  | 50 |  |  | 50 |  |
|  | 420 min | 1,400 |  | 50 |  |  | 60 |  |
|  | 480 min | 1,500 |  | 60 |  |  | 60 |  |
|  | 540 min | 1,600 |  | 60 |  |  | 70 |  |
|  | 600 min | 1,700 |  | 60 |  |  | 70 | 900 |
DTH of Tension Anchor | 8 | 120 min | 90 | 90 | 20 | 100 | 50 | 20 | 600 |
|  | 240 min | 130 | 130 |  | 160 | 70 |  | 900 |
Impact Installation | 30 | 50 strikes | 100 | 100 | 20 | 120 | 60 | 20 | 60 | 2,154
| 24 | 50 strikes | 60 | 60 | 20 | 70 | 30 | 20 | 30 | 1,000
| 20 | 50 strikes | 60 | 60 | 20 | 70 | 30 | 20 | 30 |

Table 3—Shutdown Zones, by Hearing Group for Simultaneous Use of Two DTH Hammers
Activity combination | Duration (minutes) | Level A harassment isopleth (m): LF | Level A harassment isopleth (m): MF | Level A harassment isopleth (m): HF | Level A harassment isopleth (m): PW | Level A harassment isopleth (m): OW | Level A harassment isopleth (m): Elephant seal
8-in pile, 8-in pile | 60 | 90 | 20 | 100 | 50 | 20 | 50
| 120 | 130 |  | 160 | 70 |  | 70
| 180 | 170 |  | 200 | 100 |  | 100
| 240 | 210 |  | 250 | 110 |  | 150
8-in pile, 24-in pile | 60 | 520 | 20 | 500 | 200 | 20 | 300
| 120 | 820 | 30 |  |  | 40 | 450
| 180 | 1,080 | 40 |  |  | 50 | 600
| 240 | 1,300 | 50 |  |  | 60 | 700
8-in pile, 30-in pile | 60 | 1,110 | 40 |  |  | 50 | 600
| 120 | 1,770 | 70 |  |  | 70 | 950
| 180 | 2,310 | 90 |  |  | 90 | 1,250
| 240 | 2,800 | 100 |  |  | 110 | 1,500
24-in pile, 24-in pile | 60 | 570 | 20 |  |  | 30 | 350
| 120 | 910 | 32 |  |  | 40 | 500
| 180 | 1,190 | 42 |  |  | 50 | 650
| 240 | 1,440 | 60 |  |  | 60 | 800
24-in pile, 30-in | 60 | 900 | 40 |  |  | 40 | 500
| 120 | 1,430 | 60 |  |  | 60 | 800
| 180 | 1,880 | 70 |  |  | 80 | 1,050
| 240 | 2,270 | 90 |  |  | 90 | 1,250
30-in pile, 30-in pile | 60 | 1,230 | 50 |  |  | 50 | 700
| 120 | 1,950 | 70 |  |  | 80 | 1,050
| 180 | 2,550 | 100 |  |  | 100 | 1,400
| 240 | 3,090 | 110 |  |  | 120 | 1,650

Comments and Responses

A notice of NMFS' proposal to issue a renewal IHA to ADOT was published in the Federal Register on February 10, 2023 (88 FR 8814). That notice either described, or referenced descriptions of, ADOT's activity, the marine mammal species that may be affected by the activity, the anticipated effects on marine mammals and their habitat, estimated amount and manner of take, and proposed mitigation, monitoring and reporting measures. No public comments were received.

Determinations

The renewal request consists of a subset of activities analyzed through the initial authorization and subsequent authorizations described above. In analyzing the effects of the activities for the initial IHA, NMFS determined that ADOT's activities would have a negligible impact on the affected species or stocks and that authorized take numbers of each species or stock were small relative to the relevant stocks (e.g., less than one-third the abundance of all stocks). Although new abundance information became available for Alaska Resident killer whale, none of this new information affects NMFS' determinations supporting issuance of the initial IHA. The mitigation measures and monitoring and reporting requirements as described above are identical to the initial IHA (as modified).

NMFS has concluded that there is no new information suggesting that our analysis or findings should change from those reached for the initial IHA. Based on the information and analysis contained here and in the referenced documents, NMFS has determined the following: (1) the required mitigation measures will effect the least practicable impact on marine mammal species or stocks and their habitat; (2) the authorized takes will have a negligible impact on the affected marine mammal species or stocks; (3) the authorized takes represent small numbers of marine mammals relative to the affected stock abundances; (4) ADOT's activities will not have an unmitigable adverse impact on taking for subsistence purposes as no relevant subsistence uses of marine mammals are implicated by this action, and; (5) appropriate monitoring and reporting requirements are included.

National Environmental Policy Act

To comply with the National Environmental Policy Act of 1969 (NEPA; 42 U.S.C. 4321 et seq.) and NOAA Administrative Order (NAO) 216-6A, NMFS must review our action (i.e., the issuance of an IHA renewal) with respect to potential impacts on the human environment.

This action is consistent with categories of activities identified in Categorical Exclusion B4 (incidental take authorizations with no anticipated serious injury or mortality) of the Companion Manual for NOAA Administrative Order 216-6A, which do not individually or cumulatively have the potential for significant impacts on the quality of the human environment and for which we have not identified any extraordinary circumstances that would preclude this categorical exclusion. Accordingly, NMFS determined that the issuance of the initial IHA qualified to be categorically excluded from further NEPA review. NMFS has determined that the application of this categorical exclusion remains appropriate for this renewal IHA.

Endangered Species Act

Section 7(a)(2) of the Endangered Species Act of 1973 (ESA; 16 U.S.C. 1531 et seq.) requires that each Federal agency insure that any action it authorizes, funds, or carries out is not likely to jeopardize the continued existence of any endangered or threatened species or result in the destruction or adverse modification of designated critical habitat. To ensure ESA compliance for the issuance of IHAs, NMFS' Office of Protected Resources (OPR) consults internally whenever we propose to authorize take for endangered or threatened species, in this case with NMFS' Alaska Regional Office (AKRO).

The effects of the Federal action authorized through the initial IHA were adequately analyzed in NMFS' Endangered Species Act (ESA) Section 7(a)(2) Biological Opinion for Construction of the Tongass Narrows Project (Gravina Access), revised December 19, 2019. It concluded that the take NMFS proposed to authorize through the initial IHA would not jeopardize the continued existence of any endangered or threatened species or destroy or adversely modify any designated critical habitat. Because this renewal IHA authorizes a subset of activities already analyzed through the existing Biological Opinion, reinitiating consultation is not necessary.

Renewal

NMFS has issued a renewal IHA to ADOT for the take of marine mammals incidental to conducting ferry berth improvements in Tongass Narrows in Ketchikan, Alaska between March 5, 2023 and March 4, 2024.

Dated: March 1, 2023.
Kimberly Damon-Randall,
Director, Office of Protected Resources, National Marine Fisheries Service.

[FR Doc. 2023-04533 Filed 3-3-23; 8:45 am]

BILLING CODE 3510-22-P